DEPARTMENT OF COMMERCE

Census Bureau

State and Local Construction Coverage Study

ACTION: Proposed collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before January 20, 2004.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Thuy Trang Nguyen, U.S. Census Bureau, Room 2136-4, Washington, DC 20233-6900 (or via telephone at (301) 763-4640).

SUPPLEMENTARY INFORMATION:

I. Abstract

The U.S. Census Bureau collects monthly Value in Place (VIP) data on State and local government construction in the Construction Progress Reporting Surveys (CPRS) (OMB # 0607-0153). We also collect fiscal year data on similar construction in the Annual Survey of Government Finance (ASGF) (OMB # 0607-0585). It is expected that these estimates should be comparable on a fiscal basis; nevertheless, they have continued to differ significantly during the past decades. One major source of the differences is the undercoverage of the desired universe by the sampling frame used in the CPRS. The F.W. Dodge Division of McGraw-Hill Information Systems Company identifies and lists projects started by State and local governments nationwide. We select a sample of projects from this list for the VIP survey. Due to the differences in the level of coverage by value and geographical area, various projects have no chance of being selected for the VIP survey.

The most recent evaluation of this coverage was done in 1988, producing an undercoverage estimate of 18 percent. The continuing difference on the fiscal year basis between the CPRS and the ASGF indicates the need for a reevaluation of the sampling frame coverage.

We will conduct this study on a one time basis. The Census Bureau will use the information collected for evaluation purposes and survey improvement through the correction of the State and local construction VIP estimate by the estimated coverage rate. The consequence for not conducting an undercoverage evaluation will be that the Census Bureau will produce less accurate estimates for the State and local government construction VIP. The Bureau of Economic Analysis uses the Construction Progress Reporting Survey estimates to develop the construction components for input to the Gross Domestic Product (GDP) accounts. Other government agencies such as the Council of Economics Advisers, the Federal Reserve Bank Board, and the Department of Treasury use these estimates in making policy decisions.

II. Method of Collection

We selected our respondents from the sample of State and local governments in the ASGF. We sampled 4,026 agencies from the sample of 16,986 agencies with construction expenditures.

We will utilize a mailout/mailback strategy to collect the data. Questionnaires will be mailed out in two waves (wave 1 to half of the sampled agencies and wave 2 to the other half) three months apart. Nonresponse followup will be conducted by telephone beginning 30 days after the initial mailout.

III. Data

OMB Number: None.

Form Number: SLUE-007(SS).

Type of Review: New collection.

Affected Public: State or local governments.

Estimated Number of Respondents: 4,026.

Estimated Time Per Response: 1 hour.

Estimated Total Annual Burden Hours: 4,026.

Estimated Total Annual Cost: $67,000.

Respondent's Obligation: Voluntary.

Legal Authority: Title 13, United States Code, Sections 161 and 182.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 14, 2003.
Madeleine Clayton,
Management Analyst, Office of the Chief Information Officer.

[FR Doc. 03-28936 Filed 11-18-03; 8:45 am]

BILLING CODE 3510-07-P